OFFICE OF PERSONNEL MANAGEMENT

Privacy Act of 1974: New System of Records

AGENCY: Office of Personnel Management (OPM).

ACTION: Notice of a new system of records.

SUMMARY: OPM proposes to add a new system of records to its inventory of records systems subject to the Privacy Act of 1974 (5 U.S.C. 552a), as amended. This action is necessary to meet the requirements of the Privacy Act to publish in the Federal Register notice of the existence and character of records systems maintained by the agency (5 U.S.C. 552a(e)(4)).

DATES: The new system will be effective without further notice May 17, 2000, unless comments are received that would result in a contrary determination.

ADDRESSES: Send written comments to the Office of Personnel Management, ATTN: Mary Beth Smith-Toomey, Office of the Chief Information Officer, 1900 E Street, NW., Room 5415, Washington, DC 20415-7900.

FOR FURTHER INFORMATION CONTACT: Mary Beth Smith-Toomey, (202) 606-8358.

SUPPLEMENTARY INFORMATION: The Child Care Tuition Assistance Records system will collect family income data from OPM employees for the purpose of determining their eligibility for child care tuition assistance, and the amounts of the tuition assistance. It also will collect information from the employee's child care provider(s) for verification purposes, e.g., that the provider is licensed. Collection of data will be by tuition assistance application forms submitted by employees.

U.S. Office of Personnel Management.
Janice R. Lachance,
Director.

OPM/Internal-15

System Name:

OPM Child Care Tuition Assistance Records.

System Location:

U. S. Office of Personnel Management, Office of Human Resources and EEO, 1900 E Street, NW., Room 1469, Washington, DC 20415.

Categories of Individuals Covered by the System:

Employees of the Office of Personnel Management who voluntarily apply for child care tuition assistance.

Categories of Records in the System:

Application forms for child care tuition assistance containing personal information, including employee (parent) name, Social Security Number, grade, home and work numbers, addresses, telephone numbers, total family income, names of children on whose behalf the parent is applying for tuition assistance, child's date of birth; information on child care providers used, including name, address, provider license number and State where issued, tuition cost, and provider tax identification number; and copies of IRS Form 1040 and 1040A for verification purposes.

Authority for Maintenance of the System:

Pub. L. 106-58, section 643 and E.O. 9397.

Routine Uses of Records Maintained in the System, Including Categories of Users and the Purposes of Such Uses:

Routine uses 1, and 3 through 11 of the Prefatory Statement at the beginning of OPM's system notices (60 FR 63075, effective January 17, 1996) applies to the records maintained within the system. There are no system unique routine uses.

Purpose:

To establish and verify OPM employees' eligibility for child care subsidies in order for OPM to provide monetary assistance to its employees.

Policies and Practices for Storing, Retrieving, Accessing, Retaining, and Disposing of Records in the System:

Storage:

Information may be collected on paper or electronically and may be stored as paper forms or on computers.

Retrievability:

By name; may also be cross-referenced to Social Security Number.

Safeguards:

When not in use by an authorized person, paper records are stored in lockable file cabinets or secured rooms. Electronic records are protected by the use of passwords.

Retention and Disposal:

Disposition of records is according to the National Archives and Records Administration (NARA) guidelines.

System Manager and Address:

Director, Office of Human Resources and EEO, Office of Personnel Management, 1900 E Street, NW., Washington, DC 20415.

Notification Procedure:

Individuals may submit a request on whether a system contains records about them to the system manager indicated. Individuals must furnish the following for their records to be located and identified:

Full name.

Social Security Number.

Record Access Procedure:

Individuals wishing to request access to records about them should contact the system manager indicated. Individuals must provide the following information for their records to be located and identified:

Full name.

Social Security Number.

Individuals requesting access must also follow the OPM's Privacy Act regulations regarding verification of identity and access to records (5 CFR part 297).

Contesting Record Procedure:

Individuals wishing to request amendment of records about them should contact the system manager indicated. Individuals must furnish the following information for their records to be located and identified:

Full name.

Social Security Number.

Individuals requesting amendment must also follow the OPM's Privacy Act regulations regarding verification of identity and amendment of records (5 CFR part 297).

Record Source Categories:

Information is provided by OPM employees who apply for child care tuition assistance. Furnishing of the information is voluntary.

[FR Doc. 00-12054 Filed 5-11-00; 8:45 am]

BILLING CODE 6325-01-P